DEPARTMENT OF JUSTICE

Notice of Lodging of Settlement Agreement in Accordance With the Comprehensive Environmental Response, Compensation, and Liability Act (“CERCLA”)

In accordance with Department of Justice Policy, 28 CFR 50.7, 38 Fed. Reg. 19029, and 42 U.S.C. § 9622(d), notice is hereby given that on June 26, 2000, a proposed Settlement Agreement was lodged with the United States District Court for the Eastern District of Virginia in Mobil Oil Corporation v. United States, Civil Action No. 99-1467-A. The proposed Settlement Agreement settles all CERCLA contribution claims asserted by Mobil Oil Corporation (“Mobil”) against the United States, as well as certain CERCLA claims by the United States against Mobil. These claims relate to response actions undertaken at certain portions of the Stibnite Mining Area (“Stibnite Area”) in Valley County, Idaho.

After carrying out certain response actions pursuant to an Administrative Order on Consent between the U.S. Environmental Protection Agency (“EPA”) and the U.S. Department of Agriculture, Forest Service (“FS”), and Mobil, Mobil sued the United States in the United States District Court for the Eastern District of Virginia pursuant to Sections 107(a)(2) and 113(f), (g) (2) of CERCLA, 42 U.S.C. 9607(a)(2) and 9613(f), (g)(2), alleging that the United States, on behalf of certain Federal Agencies, is liable as an owner and operator for a portion of the necessary costs of response that Mobil has incurred in connection with the Stibnite Area. Pursuant to the Settlement Agreement, Mobil will pay $264,000 into the EPA Hazardous Substances Superfund to reimburse a portion of the response costs incurred by the United States, and the United States will pay Mobil $1.55 million, to reimburse Mobil for a portion of the costs Mobil has incurred in carrying out response actions in the Stibnite Area.

Under the Settlement Agreement, the United States covenants not to sue Mobil pursuant to Sections 106, 107(a) and 113 of CERCLA, 42 U.S.C. 9606, 9607(a), and 9613 for certain response costs or for the performance certain response actions for certain discrete portions areas of the Stibnite Area. This covenant not to sue expressly does not include: (1) Claims based on Mobil's failure to meet a requirement of the Agreement; (2) liability arising from disposal, release, or threat of release of hazardous substances outside of the Site; (3) liability for future disposal of hazardous substances at the Site, other than as ordered by EPA; (4) liability for natural resources damages, and for the costs of any natural resource damage assessments; (5) criminal liability; and (6) liability, not to exceed $1.1 million, for the costs of future response actions, including constructing an impermeable cap, at a portion of the Stibnite Area.

Mobil covenants not to sue the United States for: (1) Any claim for reimbursement from the EPA Hazardous Substance Superfund (see 26 U.S.C. 9507); (2) any other costs, damages, attorneys fees, or claims arising out of response activities at the site; (3) any claim under Sections 107 and 113 of CERCLA, 42 U.S.C. 9607 and 9613, relating to the Site, except claims for natural resources damages and for the costs of any natural resource damage assessments; and (4) any claim regarding Mobil's costs incurred in implementing the work required under the VCO.

Under the Settlement Agreement, Mobil and the Settling Federal Agencies are entitled to protection from contribution actions or claims, to the extent provided by Sections 113(f)(2) and 122(h)(4) of CERCLA, 42 U.S.C. 9613(f)(2) and 9622(h)(4), as to past response costs incurred by the United States, all response actions taken and to be taken by or at the direction of the United States, and all response costs incurred and to be incurred by the United States in connection with the areas addressed in the Settlement.

The Department of Justice will receive written comments by mail relating to the proposed Settlement Agreement for thirty (30) days from the date of publication of this Notice. Comments should be addressed to the Assistant Attorney General of the Environment and Natural Resources Division, U.S. Department of Justice, Washington, DC 20530, and should refer to Mobil Oil Corporation v. United States, DOJ. Ref. No. 90-11-6-05768.

The proposed Settlement Agreement may be examined at the following location: U.S. Environmental Protection Agency, 1435 N. Orchard Street, Second Floor, Boise, Idaho 83706, 208-378-5746.

A copy of the Settlement Agreement and exhibits (if requested) may also be obtained by mail from: Allison Booker, U.S. Department of Justice, Environmental Defense Section, Environment and Natural Resources Division, P.O. Box 23986, Washington, D.C. 20026-3986.

* * * * *

Letitia J. Grishaw,
Chief, Environmental Defense Section, Environment and Natural Resources Division.

[FR Doc. 00-17219 Filed 7-6-00; 8:45 am]

BILLING CODE 4410-15-M